ENVIRONMENTAL PROTECTION AGENCY

[ER-FRL-6690-4]

Environmental Impacts Statements; Notice of Availability

Responsible Agency: Office of Federal Activities, General Information (202) 564-7167 or http://www.epa.gov/compliance/nepa/.

Weekly receipt of Environmental Impact Statements

Filed 08/20/07 Through 08/24/07

Pursuant to 40 CFR 1506.9.

Emergency Comments:

EIS No. 20070367, Draft EIS, AFS, 00, National Forest System Land Management Planning, Implementation, Proposed Land Management Planning Rule at 36 CFR Part 219 to Finish Rulemaking, Comment Period Ends:10/22/2007, Contact: Dave Sire 202-205-1006

EIS No. 20070368, Draft Supplement, BLM, NV,Newmont Gold Mining, South Operations Area Project Amendment, Updated Information on the Cumulative Effects Analyses, Operation and Expansion, Plan of Operations, Elko and Eureka Counties, NV, Comment Period Ends: 10/31/2007, Contact: Deb McFarlane 775-753-0200

EIS No. 20070369, Draft Supplement, BLM, NV,Leeville Mining Project, Propose to Develop and Operate an Underground Mine and Ancillary Facilities including Dewatering Operation, Updated Information on the Cumulative Effects Analyses,Plan-of-Operations/Right-of-Way Permit and COE Section 404 Permit, Elko and Eureka Counties, NV, Comment Period Ends:10/31/2007, Contact: Deb Farlane 775-753-0200

EIS No. 20070370, Draft EIS, AFS, 00,Sage Steppe Ecosystem Restoration Strategy, Implementation, Modoc National Forest, Modoc, Lassen, Shasta Counties, CA and Washoe County, NV, Comment Period Ends: 10/15/2007, Contact: Rob Jeffus 530-233-8816

EIS No. 20070371, Final EIS, BLM, WY, Eagle Butte West Coal Lease Application, Issuance of Lease for a Tract of Federal Coal, Wyoming Powder River Basin, Campbell County, WY, Wait Period Ends: 10/01/2007, Contact: Nancy Doelger 307-261-7627

EIS No. 20070372, Draft EIS, BLM, 00,Alabama and Mississippi Resource Management Plan, Analyzes Management Alternatives for the Public Land and Resources, in Portions of the States of Alabama and Mississippi, Comment Period Ends: 11/29/2007, Contact: Gary Taylor 601-977-5413

EIS No. 20070373, Draft EIS, RUS, WY,Dry Fork Station and Hughes Transmission Line, Construct Electric Generating Facilities, Campbell and Sheridan Counties, Wy, Comment Period Ends: 10/15/2007, Contact: Richard Fristik 202-720-5093

Amended Notices

EIS No. 20070296, Draft EIS, AFS, CA,Eldorado National Forest Public Wheeled Motorized Travel Management Project, Proposes to Regulate Unmanaged Public Wheeled Motor Vehicle, Implementation, Alphine, Amador, El Dorado and Placer Counties, CA, Comment Period Ends:10/18/2007, Contact: Laura Hierholzer 530-642-5187 Revision of FR Notice Published 07/20/2007: Extending Comment Period from 09/04/2007 to 10/18/2007

EIS No. 20070306, Draft EIS, NPS, CO,Curecanti National Recreation Area Resource Protection Study, Gunnison and Montrose Counties, CO, Comment Period Ends:10/19/2007, Contact: Roxanne Runkle 303-969-2377 Revision to FR Notice Published 07/20/2007: Correction to Title

EIS No. 20070359, Draft Supplement, BLM, AK,Northeast National Petroleum Reserve-Alaska Integrated Activity Plan, Updated Information, addressing the need for more Oil and Gas Production through Leasing Lands, Consideration of 4 Alternatives, North Slope Borough, AK, Comment Period Ends:10/23/2007, Contact: Jim Ducker 907-271-3130 Revision of FR Notice Published 08/24/2007: Correction to Comment Period from 10/09/2007 to 10/23/2007

Dated: August 28, 2007.
Robert W. Hargrove,
Director, NEPA Compliance Division, Office of Federal Activities.

[FR Doc. E7-17336 Filed 8-30-07; 8:45 am]

BILLING CODE 6560-50-P